DEPARTMENT OF COMMERCE

Foreign-Trade Zones Board

[Docket 1-2002]

Foreign-Trade Zone 3, San Francisco, California Proposed Foreign-Trade Subzone Ultramar, Inc. (Oil Refinery Complex) Martinez, California, Area

An application has been submitted to the Foreign-Trade Zones Board (the Board) by the San Francisco Port Commission, grantee of FTZ 3, requesting special-purpose subzone status for the oil refinery complex of Ultramar, Inc. (Ultramar), a subsidiary of Ultramar Diamond Shamrock Corporation, located in the Martinez, California, area. The application was submitted pursuant to the provisions of the Foreign-Trade Zones Act, as amended (19 U.S.C. 81a-81u), and the regulations of the Board (15 CFR part 400). It was formally filed on January 3, 2002.

The Ultramar refinery complex is located at 3 sites in the Martinez, California, area (Contra Costa County), some 30 miles northeast of San Francisco: Site 1 (168,000 BPD capacity, 2,690,000 barrel storage capacity, 2038.65 acres)—main refinery complex, located at 150 Solano Road; Site 2 (87.9 acres, 522,000 barrel storage capacity)—Amorco crude oil storage facility located on the Carquinez Strait and west of Interstate 680, some 2.5 miles west of the refinery; and, Site 3 (13.2 acres)—Pittsburg Marine Terminal for the storage and shipment of petroleum coke, 595 East Third Street, Pittsburg, some 11.5 miles east of the refinery on the Carquinez Strait. The refinery complex is within the San Francisco Customs port of entry.

The “Golden Eagle” refinery (636 full-time and 434 contract employees) is used to produce fuels and petrochemical feedstocks. Fuel products include gasoline, jet fuel, distillates, residual fuels, naphthas and motor fuel blendstocks. Petrochemical feedstocks and refinery by-products include propane, butane, petroleum coke and sulfur. Some 20 percent of the crude oil (90-95 percent of inputs) is sourced abroad. The company is also requesting to import certain intermediate inputs (naphthas and gas oils) under FTZ procedures.

Zone procedures would exempt the refinery from Customs duty payments on the foreign products used in its exports. On domestic sales, the company would be able to choose the Customs duty rates that apply to certain petrochemical feedstocks and refinery by-products (duty-free) by admitting incoming foreign inputs (crude oil, natural gas condensate, gas oil, naphtha) in non-privileged foreign status. The duty rates on inputs range from 5.25¢/barrel to 10.5¢/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is March 12, 2002. Rebuttal comments in response to material submitted during the foregoing period may be submitted during the subsequent 15-day period until March 27, 2002.

A copy of the application and accompanying exhibits will be available for public inspection at the Office of the Foreign-Trade Zones Board's Executive Secretary at address Number 1 listed above, and at the U.S. Department of Commerce Export Assistance Center, 530 Water Street, Suite 740, Oakland, California 94607.

Dated: January 4, 2002.
Dennis Puccinelli,
Executive Secretary.

[FR Doc. 02-768 Filed 1-10-02; 8:45 am]

BILLING CODE 3510-DS-P